ENVIRONMENTAL PROTECTION AGENCY

[EPA-HQ-OAR-2008-0312; FRL-8756-3]

Agency Information Collection Activities: Submission to OMB for Review and Approval; Comment Request; Servicing of Motor Vehicle Air Conditioners (Renewal), EPA ICR Number 1617.06, OMB Control Number 2060-0247

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Comments must be submitted on or before January 22, 2009.

ADDRESSES: Submit your comments, referencing Docket ID No. EPA-HQ-OAR-2008-0312, to (1) EPA online using http://www.regulations.gov (our preferred method), by e-mail to a-and-r-Docket@epa.gov, or by mail to: EPA Docket Center, Environmental Protection Agency, Air Docket, Mailcode 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Karen Thundiyil, Stratospheric Protection Division, Office of Atmospheric Programs, (MC 6205J), Environmental Protection Agency, 1200 Pennsylvania Ave., NW., Washington, DC 20460; telephone number: (202) 343-9464; fax number: (202) 343-2163; e-mail address: thundiyil.karen@epa.gov.

SUPPLEMENTARY INFORMATION: EPA has submitted the following ICR to OMB for review and approval according to the procedures prescribed in 5 CFR 1320.12. On June 9, 2008 (73 FR 32570), EPA sought comments on this ICR pursuant to 5 CFR 1320.8(d). EPA received no comments. Any additional comments on this ICR should be submitted to EPA and OMB within 30 days of this notice.

EPA has established a public docket for this ICR under Docket ID No. EPA-HQ-OAR-2008-0312, which is available for online viewing at http://www.regulations.gov, or in person viewing at the Air Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air Docket is 202-566-1742.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Servicing of Motor Vehicle Air Conditioners (Renewal).

ICR numbers: EPA ICR No. 1617.06, OMB Control No. 2060-0247.

ICR Status: This ICR is scheduled to expire on December 31, 2008. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 609 of the Clean Air Act Amendments of 1990 (Act) provides general guidelines for motor vehicle air conditioning (MVAC) refrigerant handling and MVAC servicing. It states that “no person repairing or servicing motor vehicles for consideration may perform any service on a motor vehicle air conditioner involving the refrigerant for such air conditioner without properly using approved refrigerant recovery and/or recovery and recycling equipment (hereafter referred to as “refrigerant handling equipment”) and no such person may perform such service unless such person has been properly trained and certified.”

In 1992, EPA developed regulations under section 609 that were published in 57 FR 31242, and codified at 40 CFR part 82, Subpart B (§ 82.30 et seq.). The information required to be collected under the Section 609 regulations is currently approved for use through December 31, 2008. This supporting statement is submitted to justify an extension of the approval of use of this information. Descriptions of the recordkeeping and reporting requirements mandated by section 609 and delineated in 40 CFR part 82, subpart B are summarized below in this section. Approved Refrigerant Handling Equipment: In accordance with Section 609(b)(2)(A), 40 CFR 82.36 requires that refrigerant handling equipment be certified by EPA or independent standards testing organization. Certification standards are particular to the type of equipment and the refrigerant to be recovered, and must be consistent with the Society of Automotive Engineers (SAE) standards for MVAC equipment.

Approved independent standards testing organizations: Section 609(b)(2)(A) of the Act requires independent laboratory testing of refrigerant handling equipment to be certified by EPA. The Stratospheric Protection Division (SPD) requires independent laboratories to submit an application that documents: the organization's capacity to accurately test equipment compliance with applicable standards consistent with the SAE standards for handling refrigerant, an absence of conflict of interest or financial benefit based on test outcomes, and an agreement to allow EPA access to verify application information. Once an independent laboratory has been approved by EPA, the application is kept on file in the SPD. Two laboratories—Underwriters Laboratories Inc. and ETL Testing Laboratories—are currently approved to test refrigerant handling equipment. EPA does not anticipate that any organizations will apply to EPA in the future to become approved independent standards testing organizations. Therefore, annual hours and costs related to information submitted by these organizations have been eliminated.

Technician training and certification: According to Section 609(b)(4) of the Act, automotive technicians are required to be trained and certified in the proper use of approved refrigerant handling equipment. Programs that perform technician training and certification activities must apply to the SPD for approval by submitting verification that its program meets EPA standards. The information requested is used by the SPD to guarantee a degree of uniformity in the testing programs for motor vehicle service technicians.

Due to rapid developments in technology, the Agency requires that each approved technician certification program conducts periodic reviews and updates of test material, submitting a written summary of the review and program changes to EPA every two years. After the test has been approved by EPA, a hard copy remains on file with SPD. Currently, 24 testing programs are approved by EPA to train technicians in the proper use of refrigerant handling equipment. Six of these programs are designed specifically for individual company's own employees.

Certification, reporting and recordkeeping: To facilitate enforcement under Section 609, EPA has developed several recordkeeping requirements. All required records must be retained on-site for a minimum of three years, unless otherwise indicated.

Section 609(c) of the Act states that by January 1, 1992, no person may service any motor vehicle air conditioner without being properly trained and certified, nor without using properly approved refrigerant handling equipment. To this end, 40 CFR 82.42(a) states that by January 1, 1993, each service provider must have submitted to EPA on a one-time basis a statement signed by the owner of the equipment or another responsible officer that provides the name of the equipment purchaser, the address of the service establishment where the equipment will be located, the manufacturer name, equipment model number, date of manufacture, and equipment serial number. The statement must also indicate that the equipment will be properly used in servicing motor vehicle air conditioners and that each individual authorized by the purchaser to perform service is properly trained and certified. The information is used by the SPD to verify compliance with Section 609 of the Act.

Any person who owns approved refrigerant handling equipment must maintain records of the name and address of any facility to which refrigerant is sent. Additionally, any person who owns approved refrigerant handling equipment must retain records demonstrating that all persons authorized to operate the equipment are currently certified technicians.

Finally, any person who sells or distributes a class I or class II refrigerant that is in a container of less than 20 pounds must verify that the purchaser is a properly trained and certified technician, unless the purchase of small containers is for resale only. In that case, the seller must obtain a written statement from the purchaser that the containers are for resale only, and must indicate the purchaser's name and business address. When a certified technician purchases small containers of refrigerant for servicing motor vehicles, the seller must have a reasonable basis for believing the accuracy of the information presented by the purchaser. In all cases, the seller must display a sign where sales occur that states the certification requirements for purchasers.

Burden Statement: The annual public reporting and recordkeeping burden for this collection of information is estimated to average less than one hour per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Affected Entities: Entities potentially affected by this action are new and used motor vehicle dealers, gasoline service stations, general automotive repair shops, and automotive repair shops not elsewhere classified.

Estimated Number of Potential Respondents: 64,382.

Frequency of Response: On occasion.

Estimated Total Annual Hour Burden: 6,700 hours.

Estimated Total Annual Costs: $262,980.47. This includes an estimated labor cost of $262,980.47 and an estimated cost of $0 for capital or O&M costs.

Changes in the Estimates: There is an increase of 3,835 hours in the total estimated burden currently identified in the OMB Inventory of Approved ICR Burdens. The primary reason for this increase is the increase in the number of technicians certified annually. EPA has revised its estimate based on data collected in June 2007 from 11 out of 24 technician certification centers. It is estimated that 55,000 new MVAC technicians are certified each year, rather than 14,000 as assumed in the last ICR. A major part of this ICR burden is based on how many technicians are certified annually.

Dated: December 17, 2008.
John Moses,
Acting Director, Collection Strategies Division.

[FR Doc. E8-30547 Filed 12-22-08; 8:45 am]

BILLING CODE 6560-50-P